ENVIRONMENTAL PROTECTION AGENCY

[EPA-HQ-OPP-2025-0024; FRL-12473-01-OCSPP]

Pesticide Product Registration; Receipt of Applications for New Active Ingredients (January 2025)

AGENCY: Environmental Protection Agency (EPA).

ACTION: Notice.

SUMMARY: This document announces the Agency's receipt of applications to register pesticide products containing active ingredients not included in any currently registered pesticide products. EPA is hereby providing notice of receipt and opportunity to comment on these applications.

DATES: Comments must be received on or before April 28, 2025.

ADDRESSES: Submit your comments, identified by the docket identification (ID) number and the EPA File Symbol or the EPA Registration Number of interest as shown in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• BPPD (Biopesticides and Pollution Prevention Division) (Mail Code 7511M); Madison Le; main telephone number: (202) 566-1400; email address: BPPDFRNotices@epa.gov.

SUPPLEMENTARY INFORMATION:

I. Executive Summary

A. Does this action apply to me?

This action provides information that is directed to the public in general.

B. What is the Agency's authority for taking this action?

EPA is taking this action pursuant to section 3(c)(4) of the Federal Insecticide, Fungicide, and Rodenticide Act (FIFRA), 7 U.S.C. 136a(c)(4), and 40 CFR 152.102.

C. What action is the Agency taking?

EPA is hereby providing notice of receipt and opportunity to comment on applications to register pesticide products containing active ingredients not included in any currently registered pesticide products that were received during the covered period. Notice of receipt of these applications does not imply a decision by the Agency on these applications. For actions being evaluated under EPA's public participation process for registration actions, there will be an additional opportunity for public comment on the proposed decisions. Please see EPA's public participation website for additional information on this process (https://www.epa.gov/registration/public-participation-process-registration-actions).

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov//epa-dockets.

II. Registration Applications Received

This unit provides the following information about the applications received during this period: The EPA File Symbol or Registration number(s); EPA docket ID number for the application; Name and address of the applicant; Name of the active ingredient, product type and proposed uses; and the division to contact for that application. Additional information about the application may also be available in the related docket for the application as identified in this unit.

Notice of Receipt—New Active Ingredients

• File Symbol: 67979-UL. Docket ID number: EPA-HQ-OPP-2025-0048. Applicant: Syngenta Seeds, LLC.—Field Crops—NAFTA, 9 Davis Drive, Research Triangle Park, NC 27709. Product name: MZIR260 Corn. Active ingredient: Insecticidal plant-incorporated protectant—Bacillus thuringiensis eCry1Gb.1Ig protein and the genetic material (vector pSYN24795) necessary for its production in MZIR260 Corn (SYN-ØØ260Ø-3) at <0.03880%. Proposed use: Corn. Contact: BPPD.

• File Symbol: 8917-L. Docket ID number: EPA-HQ-OPP-2024-0101. Applicant: J.R. Simplot Company, 5369 W Irving St., Boise, ID 83706. Product name: BG25 late blight + Potato virus Y (PVY) protection. Active ingredient: Plant-incorporated protectant—PVY coat protein DNA inverted repeat at 4.2 × 10⁻⁶%. Proposed use: Potato. Contact: BPPD.

Authority: 7 U.S.C. 136 et seq.

Dated: March 24, 2025.
Kimberly Smith,
Acting Director, Information Technology and Resources Management Division, Office of Program Support.

[FR Doc. 2025-05275 Filed 3-26-25; 8:45 am]

BILLING CODE 6560-50-P